DEPARTMENT OF AGRICULTURE

Submission for OMB Review; Comment Request

June 20, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: Electronic Mailing List Subscription Form—Nutrition and Food Safety.

OMB Control Number: 0518-0036.

Summary of Collection: The National Agricultural Library's Food Information Team (FIT) currently maintains several on-line “discussion groups.” This voluntary “ Electronic Mailing List Subscription Form” gives individuals working in the area of nutrition and food safety an opportunity to participate in these groups. Data collected using this form will help FIT determine a person's eligibility to participate in these discussion groups. The authority for the National Agricultural Library (NAL) to collect this information is contained in the CFR, title 7, volume 1, part 2, and subpart K, § 2.65(92).

Need and Use of the Information: NAL will collect the name, e-mail address, job title, job location, mailing address and telephone number in order to approve subscriptions for nutrition and food safety on-line discussion groups. Failure to collect this information would inhibit NAL's ability to provide subscription services to these discussion groups.

Description of Respondents: State, Local or Tribal Government; Individuals or households; Federal Government; Not-for-profit institutions

Number of Respondents: 1,000.

Frequency of Responses: Reporting: Monthly; Annually.

Total Burden Hours: 17.

Ruth Brown,
Departmental Information Collection Clearance Officer.

[FR Doc. E6-9981 Filed 6-23-06; 8:45 am]

BILLING CODE 3410-03-P